DEPARTMENT OF COMMERCE

International Trade Administration

[C-489-832]

Carbon and Alloy Steel Wire Rod From the Republic of Turkey: Final Results of the Expedited First Sunset Review of the Countervailing Duty Order

AGENCY: Enforcement and Compliance, International Trade Administration, Department of Commerce.

SUMMARY: The U.S. Department of Commerce (Commerce) finds that revocation of the countervailing duty (CVD) order on carbon and alloy steel wire rod (wire rod) from the Republic of Turkey (Turkey) would be likely to lead to continuation or recurrence of countervailing subsidies at the levels indicated in the “Final Results of Sunset Review” section of this notice.

DATES: Applicable April 5, 2023.

FOR FURTHER INFORMATION CONTACT: Kabir Archuletta, AD/CVD Operations, Office V, Enforcement and Compliance, International Trade Administration, U.S. Department of Commerce, 14th Street and Constitution Avenue NW, Washington, DC 20230; telephone: (202) 482-2593.

SUPPLEMENTARY INFORMATION:

Background

On May 21, 2018, Commerce published in the Federal Register the CVD order on wire rod from Turkey.¹ On December 1, 2022, Commerce published the notice of initiation of the first sunset review of the Order, pursuant to section 751(c) of the Tariff Act of 1930, as amended (the Act).² On December 14, 2022, Commerce received a timely-filed notice of intent to participate from Charter Steel, Commercial Metals Company, Liberty Steel USA, Nucor Corporation, and Optimus Steel LLC (collectively, the domestic interested parties), within the deadline specified in 19 CFR 351.218(d)(1)(i).³ The domestic interested parties claimed interested party status under section 771(9)(C) of the Act as producers of the domestic like product in the United States.

¹ See Carbon and Alloy Steel Wire Rod from Italy and the Republic of Turkey: Amended Final Affirmative Countervailing Duty Determination for the Republic of Turkey and Countervailing Duty Orders for Italy and the Republic of Turkey, 83 FR 23420 (May 21, 2018) (Order).

² See Initiation of Five-Year (Sunset) Reviews, 87 FR 73757 (December 1, 2022) (Initiation Notice).

³ See Domestic Interested Parties' Letter, “Domestic Interested Parties' Notice of Intent to Participate,” dated December 14, 2022.

On December 30, 2022, Commerce received an adequate substantive response to the Initiation Notice from the domestic interested parties within the 30-day deadline specified in 19 CFR 351.218(d)(3)(i).⁴ We received no substantive responses from any other interested parties, including the Government of Turkey, nor was a hearing requested. On January 25, 2023, Commerce notified the U.S. International Trade Commission that it did not receive an adequate substantive response from respondent interested parties.⁵ As a result, pursuant to section 751(c)(3)(B) of the Act and 19 CFR 351.218(e)(1)(ii)(B)(2) and (C)(2), Commerce conducted an expedited (120-day) sunset review of the Order.

⁴ See Domestic Interested Parties' Letter, “Domestic Interested Parties' Substantive Response,” dated December 30, 2022.

⁵ See Commerce's Letter, “Sunset Reviews Initiated on December 1, 2022,” dated January 25, 2023.

Scope of the Order

The merchandise covered by this Order is certain hot-rolled products of carbon steel and alloy steel, in coils, of approximately round cross section, less than 19.00 mm in actual solid cross-sectional diameter. For a full description of the scope, see the Issues and Decision Memorandum.⁶

⁶ See Memorandum, “Issues and Decision Memorandum for the Final Results of the Expedited First Sunset Review of the Countervailing Duty Order on Carbon and Alloy Steel Wire Rod from the Republic of Turkey,” dated concurrently with, and hereby adopted by, this notice (Issues and Decision Memorandum).

Analysis of Comments Received

All issues raised in this sunset review are addressed in the accompanying Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at https://access.trade.gov/public/FRNoticesListLayout.aspx.

⁷ Id.

Final Results of Sunset Review

Pursuant to sections 751(c)(1) and 752(b) of the Act, Commerce determines that revocation of the Order would likely lead to continuation or recurrence of countervailable subsidies at the rates listed below.

Exporter/producer | Net subsidy rate (percent ad valorem)
Habas Sinai Ve Tibbi Gazlar Istih (Habas) | 6.09
Icdas Celik Eberji Tersane Ve Ulasim San (Icdas) | 3.81
All Others | 4.95

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act and 19 CFR 351.218.

Dated: March 30, 2023.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rate Likely to Prevail

3. Nature of the Subsidies

VII. Final Results of Sunset Review

VIII. Recommendation

[FR Doc. 2023-07039 Filed 4-4-23; 8:45 am]

BILLING CODE 3510-DS-P